DEPARTMENT OF COMMERCE

International Trade Administration

[C-475-841]

Forged Steel Fluid End Blocks From Italy: Preliminary Results of Countervailing Duty Administrative Review and Rescission of Administrative Review, in Part; 2022

AGENCY: Enforcement and Compliance, International Trade Administration, Department of Commerce.

SUMMARY: The U.S. Department of Commerce (Commerce) preliminarily finds that countervailable subsidies were provided to producers and exporters of forged steel fluid end blocks (fluid end blocks) from Italy, during the period of review (POR) January 1, 2022 through, December 31, 2022. In addition, Commerce is rescinding this review, in part, with respect to 19 companies. Interested parties are invited to comment on these preliminary results.

DATES: February 6, 2024.

FOR FURTHER INFORMATION CONTACT: Nicholas Czajkowski or Claudia Cott, AD/CVD Operations, Office I, Enforcement and Compliance, International Trade Administration, U.S. Department of Commerce, 1401 Constitution Avenue NW, Washington, DC 20230; telephone: (202) 482-1395 or (202) 482-4270, respectively.

SUPPLEMENTARY INFORMATION:

Background

On January 29, 2021, Commerce published in the Federal Register the countervailing duty order on fluid end blocks from Italy.¹ On January 3, 2023, Commerce published in the Federal Register the notice of initiation of an administrative review of the Order.² On June 23, 2023, Commerce selected Lucchini Mame Forge S.p.A. (Lucchini), and Metalcam S.p.A. (Metalcam) for individual examination as the mandatory respondents in this review.³ On September 12, 2023, Commerce extended the deadline for the preliminary results of this review until January 31, 2024.⁴

¹ See Forged Steel Fluid End Blocks from the People's Republic of China, the Federal Republic of Germany, India, and Italy: Countervailing Duty Orders, and Amended Final Affirmative Countervailing Duty Determination for the People's Republic of China, 86 FR 7535 (January 29, 2021) (Order); see also Forged Steel Fluid End Blocks from the People's Republic of China, the Federal Republic of Germany, India, and Italy: Correction to Countervailing Duty Orders, 86 FR 10244 (February 19, 2021).

² See Initiation of Antidumping and Countervailing Duty Administrative Reviews, 88 FR 15642, (March 14, 2023).

³ See Memorandum, “Respondent Selection,” dated June 23, 2023.

⁴ See Memorandum, “Extension of Deadline for Preliminary Results of Countervailing Duty Administrative Review; 2022,” dated September 12, 2023.

For a complete description of the events that followed the initiation of this administrative review, see the Preliminary Decision Memorandum.⁵ A list of topics discussed in the Preliminary Decision Memorandum is included in Appendix I of this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁵ See Memorandum, “Decision Memorandum for the Preliminary Results of the Administrative Review of the Countervailing Duty Order on Forged Steel Fluid End Blocks from Italy; 2022,” dated concurrently with, and hereby adopted by, this notice (Preliminary Decision Memorandum).

Scope of the Order

The merchandise subject to the Order is fluid end blocks from Italy. For a complete description of the scope of the Order, see the Preliminary Decision Memorandum.

Rescission of Administrative Review, In Part

Pursuant to 19 CFR 351.213(d)(3), Commerce will rescind an administrative review when there are no reviewable suspended entries. Based on our analysis of U.S. Customs and Border Protection (CBP) information, we preliminarily determine that 19 companies had no entries of subject merchandise during the POR. On January 9, 2024, we notified parties of our intent to rescind this administrative review, in part, with respect to the 19 companies that have no reviewable suspended entries.⁶ No parties commented on our intent to rescind the review, in part. Therefore, we are rescinding the administrative review, in part, with respect to these 19 companies listed in Appendix II of this notice.

⁶ See Memorandum, “Intent to Rescind Review, in Part,” dated January 16, 2024.

Methodology

Commerce is conducting this review in accordance with section 751(a)(1) of the Tariff Act of 1930, as amended (the Act). For each of the subsidy programs found to be countervailable, Commerce preliminarily determines that there is a subsidy, i.e. , a financial contribution by an “authority” that gives rise to a benefit to the recipient, and that the subsidy is specific.⁷ For a full description of the methodology underlying our conclusions, including our reliance, in part, on facts otherwise available pursuant to sections 776(a) and (b) of the Act, see the Preliminary Decision Memorandum.

⁷ See sections 771(5)(B) and (D) of the Act regarding financial contribution; section 771(5)(E) of the Act regarding benefit; and section 771(5A) of the Act regarding specificity.

Rate For Non-Selected Companies Under Review

There are two companies, Officine Meccaniche Roselli S.r.l. (Roselli) and Cogne Acciai Speciali S.p.A. (Cogne) for which a review was requested, which had reviewable entries, and which were not selected as mandatory respondents or found to be cross-owned with a mandatory respondent. For these companies, because the rates calculated for the mandatory respondents, Lucchini and Metalcam, were above de minimis and not based entirely on facts available, and because neither mandatory respondent provided publicly ranged sales data, we are applying to the non-selected companies a rate using the simple average of the individual subsidy rates calculated for Lucchini and Metalcam. This methodology is consistent with our practice for establishing an all-others rate pursuant to section 705(c)(5)(A) of the Act.⁸

⁸ See Memorandum, “Calculation of Non-Selected Companies Rate,” dated concurrently with, and hereby adopted by, this notice; see also Preliminary Decision Memorandum.

Preliminary Results of Review

Commerce preliminary determines that the following net countervailable subsidy rates exist for the period January 1, 2022, through December 31, 2022:

⁹ Commerce preliminary finds the following companies to be cross-owned with Lucchini: Lucchini RS S.p.A.; Lucchini Industries Srl; and Bicomet S.p.A.

¹⁰ Commerce has found the following companies to be cross-owned with Metalcam: Adamello Meccanica S.r.l.; and B.S. S.r.l.

Company | Subsidy rate (percent ad valorem)
Lucchini Mame Forge S.p.A.⁹ | 5.87
Metalcam S.p.A.¹⁰ | 3.41
Review-Specific Average Rate Applicable to the Following Companies:
Officine Meccaniche Roselli S.r.l | 4.64
Cogne Acciai Speciali S.p.A | 4.64

Disclosure and Public Comment

We intend to disclose our calculations performed for these preliminary results to interested parties within five days after the date of publication of this notice.¹¹ Pursuant to 19 CFR 351.309(c), interested parties may submit case briefs to Commerce no later than 30 days after the date of publication of these preliminary results of review.¹² Rebuttal briefs, limited to issues raised in the case briefs, may be filed not later than five days after the date for filing case briefs.¹³ Interested parties who submit case briefs or rebuttal briefs in this proceeding must submit: (1) a table of contents listing each issue; and (2) a table of authorities.¹⁴

¹¹ See 19 CFR 351.224(b).

¹² See 19 CFR 351.309(c)(2) and (d)(2).

¹³ See 19 CFR 351.309(d); see also Administrative Protective Order, Service, and Other Procedures in Antidumping and Countervailing Duty Proceedings, 88 FR 67069, 67077 (September 29, 2023) (APO and Final Service Rule).

¹⁴ See 19 CFR 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.¹⁵ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).¹⁶

¹⁵ We use the term “issue” here to describe an argument that Commerce would normally address in a comment of the Issues and Decision Memorandum.

¹⁶ See APO and Final Service Rule.

Pursuant to 19 CFR 351.310(c), interested parties who wish to request a hearing must submit a written request to the Assistant Secretary for Enforcement and Compliance, filed electronically via ACCESS. Requests should contain: (1) the party's name, address, and telephone number; (2) the number of participants; and (3) a list of issues to be discussed. Issues raised in the hearing will be limited to those raised in the respective case briefs. An electronically filed hearing request must be received successfully in its entirety by Commerce's electronic records system, ACCESS, by 5 p.m. Eastern Time within 30 days after the date of publication of this notice.

Final Results of Review

Unless otherwise extended, Commerce intends to issue the final results of this administrative review, including the results of its analysis of issues raised in written briefs, no later than 120 days after the date of publication of this notice in the Federal Register, pursuant to 751(a)(3)(A) of the Act and 19 CFR 351.213(h)(1).

Assessment Rates

In accordance with section 751(a)(2)(C) of the Act and 19 CFR 351.221(b)(4)(i), we preliminarily determined subsidy rates in the amounts shown above for the producer/exporters shown above. Upon issuance of the final results of the administrative review, consistent with section 751(a)(1) of the Act and 19 CFR 351.212(b)(2), Commerce shall determine, and CBP shall assess, countervailing duties on all appropriate entries covered by this review.

For the companies for which this review is rescinded with these preliminary results, we will instruct CBP to assess countervailing duties on all appropriate entries at a rate equal to the cash deposit of estimated countervailing duties required at the time of entry, or withdrawal from warehouse, for consumption, during the period January 1, 2022, through December 31, 2022, in accordance with 19 CFR 351.212(c)(l)(i). For the companies remaining in the review, we intend to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(2)(C) of the Act, Commerce also intends upon publication of the final results, to instruct CBP to collect cash deposits of the estimated countervailing duties in the amounts calculated in the final results of this review for the respective companies listed above with regard to shipments of subject merchandise entered, or withdrawn from warehouse, for consumption on or after the date of publication of the final results of this review. If the rate calculated in the final results is zero or de minimis, no cash deposit will be required on shipments of the subject merchandise entered or withdrawn from warehouse, for consumption on or after the date of publication of the final results of this review.

For all non-reviewed firms, CBP will continue to collect cash deposits of estimated countervailing duties at the all-others rate or the most recent company-specific rate applicable to the company, as appropriate. These cash deposit requirements, when imposed, shall remain in effect until further notice.

Notification to Interested Parties

These preliminary results of review are issued and published pursuant to sections 751(a)(1) and 777(i)(1) of the Act and 19 CFR 351.213 and 351.221(b)(4).

Dated: January 31, 2024.
Abdelali Elouaradia,
Deputy Assistant Secretary for Enforcement and Compliance.

Appendix I

List of Topics Discussed in the Preliminary Decision Memorandum

I. Summary

II. Background

III. Scope the Order

IV. Rescission of Administrative Review, in Part

V. Non-Selected Companies Under Review

VI. Use of Facts Otherwise Available and Adverse Inferences

VII. Subsidies Valuation

VIII. Analysis of Programs

IX. Recommendation

Appendix II

Companies Rescinded From This Administrative Review

1. Acciaierie Bertoli Safau S.p.A.

2. ASFO S.p.A.

3. Ellena S.p.A.

4. Fomas S.p.A.

5. Forge Monchieri S.p.A.

6. Forgiatura Morandini S.r.l.

7. Forgital Italy S.p.A.

8. Galperti Group

9. IMER International S.p.A.

10. Industria Meccanica e Stampaggio S.p.A.

11. Mimest S.p.A.

12. Ofar S.p.A.

13. Officine Galperti S.p.A.

14. P. Technologies S.r.l.

15. Poclain Hydraulics Indistriale S.r.l.

16. Poppi Ugo Euroforge S.p.A.

17. Riganti S.p.A.

18. Ringmill S.p.A.

19. Siderforgerossi Group S.p.A.

[FR Doc. 2024-02392 Filed 2-5-24; 8:45 am]

BILLING CODE 3510-DS-P